DEPARTMENT OF HEALTH AND HUMAN SERVICES

Health Resources and Services Administration

Statement of Organization, Functions and Delegations of Authority

This notice amends Part R of the Statement of Organization, Functions and Delegations of Authority of the Department of Health and Human Services (HHS), Health Resources and Services Administration (HRSA) (60 FR 56605, as amended November 6, 1995; as last amended at 79 FR 52734-52735 dated September 4, 2014).

This notice reflects organizational changes in the Health Resources and Services Administration (HRSA). Specifically, this notice: (1) Abolishes the Office of Administrative Management, Office of National Assistance and Special Populations, Central Southeast Division, North Central Division, Northeast Division, and Southwest Division; (2) establishes the Office of Strategic Business Operations (RCA), Office of Northern Health Services (RCB), the Office of Southern Health Services (RCD) and the Division of Administrative Operations (RC2); (3) renames the Office of Quality and Data to the Office of Quality Improvement (RCK) and updates the functional statement; and (4) updates the functional statement for the Office of the Associate Administrator (RC) and the Office of Policy and Program Development (RCH).

Chapter RC—Bureau of Primary Health Care

Section RC-10, Organization

Delete the organization for the Bureau of Primary Health Care in its entirety and replace with the following:

The Bureau of Primary Health Care (RC) is headed by the Associate Administrator, who reports directly to the Administrator, Health Resources and Services Administration. The Bureau of Primary Health Care includes the following components:

(1) Office of the Associate Administrator (RC);

(2) Division of Administrative Operations (RC2);

(3) Office of Strategic Business Operations (RCA);

(4) Office of Northern Health Services (RCB);

(5) Office of Southern Health Services (RCD);

(6) Office of Policy and Program Development (RCH); and

(7) Office of Quality Improvement (RCK).

Section RC-20, Functions

(1) Delete the functional statement for the Bureau of Primary Health Care (RC) and replace in its entirety.

Office of the Associate Administrator (RC)

The Office of the Associate Administrator provides overall leadership, direction, coordination, and planning in support of BPHC programs. Specifically: (1) Establishes program goals, objectives and priorities, and provides oversight to their execution; (2) plans, directs, coordinates, supports, and evaluates Bureau wide management activities; and (3) maintains effective relationships within HRSA and with other Department of Health and Human Services (HHS) organizations, other federal agencies, state and local governments, and other public and private organizations concerned with primary health care, eliminating health disparities, and improving the health status of the nation's underserved and vulnerable populations.

Division of Administrative Operations (RC2)

The Division of Administrative Operations plans, directs and coordinates Bureau wide administrative management activities. Specifically: (1) Serves as BPHC's principal source for administrative and management advice, analysis, and assistance; (2) provides strategic guidance and coordinates personnel activities for BPHC, including the allocation of personnel resources; (3) develops policies and procedures for internal operations, interpreting and implementing management policies, procedures and systems; (4) develops and coordinates BPHC program and administrative delegations of authority activities; (5) provides guidance to BPHC on financial management activities; (6) provides Bureau-wide support services such as continuity of operations and emergency planning, procurement planning and coordination, supply management, equipment utilization, printing, property management, space management, and management reports; and (7) coordinates BPHC administrative management activities with other components within HRSA and HHS, and with other federal agencies, state and local governments, and other public and private organizations, as appropriate.

Office of Strategic Business Operations (RCA)

The Office of Strategic Business Operations serves as the organizational focus for the development of BPHC external affairs, organizational development, and management information systems. Specifically: (1) Serves as BPHC's focal point for communication and program information dissemination; (2) serves as BPHC Executive Secretariat and BPHC focal point for records management policies and guidance; (3) leads strategic initiatives for the organizational development of the Bureau; (4) plans and coordinates internal training and staff development activities; (5) serves as BPHC focal point for the design and implementation of management information systems to assist and improve program performance and internal operations; and (6) consults and coordinates BPHC external affairs, organizational development and management information systems with other components within HRSA and HHS, and with other federal agencies, state and local governments, and other public and private organizations.

Office of Northern Health Services (RCB)

The Office of Northern Health Services manages BPHC primary health care service delivery programs, including those focused on special populations, and associated activities within HHS Regions I, II, III, V, VIII, X. Specifically: (1) Oversees BPHC primary health care service delivery programs for compliance with program requirements; (2) provides assistance on program-related statutory/regulatory policy, and program requirements; (3) monitors the performance of BPHC primary health care service delivery programs, making programmatic recommendations and providing assistance to improve performance, where appropriate; (4) reviews findings and recommendations of periodic and episodic grantee assessments, coordinating actions needed to assure continuity of services to underserved and vulnerable populations and appropriate use of federal resources; (5) coordinates and supports emergency preparedness and response for BPHC programs; and (6) provides consultation to and coordinates activities within HRSA and HHS, and with other federal agencies, state and local governments, and other public and private organizations involved in the implementation of BPHC primary health care service delivery programs.

Office of Southern Health Services (RCD)

The Office of Southern Health Services manages BPHC primary health care service delivery programs, including those focused on special populations, and associated activities within HHS Regions IV, VI, VII and IX. Specifically: (1) Oversees BPHC primary health care service delivery programs for compliance with program requirements; (2) provides assistance on program-related statutory/regulatory policy and program requirements; (3) monitors the performance of BPHC primary health care service delivery programs, making programmatic recommendations and providing assistance to improve performance, where appropriate; (4) reviews findings and recommendations of periodic and episodic grantee assessments, coordinating actions needed to assure continuity of services to underserved and vulnerable populations and appropriate use of federal resources; (5) coordinates and supports emergency preparedness and response for BPHC programs; and (6) provides consultation to and coordinates activities within HRSA and HHS, and with other federal agencies, state and local governments, and other public and private organizations involved in the implementation of BPHC primary health care service delivery programs.

Office of Policy and Program Development (RCH)

The Office of Policy and Program Development serves as the organizational focus for the development of BPHC programs and policies. Specifically: (1) Leads and monitors the strategic development of primary care programs, including health centers, special population programs, and other health systems; (2) provides assistance to communities, community-based organizations, and BPHC programs related to the development, and expansion of primary care; (3) manages BPHC capital and loan guarantee programs; (4) leads and coordinates the analysis, development and drafting of budget and policy impacting BPHC programs; (5) provides support to the National Advisory Council on Migrant Health; (6) performs environmental scanning on issues that affect BPHC programs; (7) monitors BPHC activities in relation to HRSA and HHS Strategic Plan; and (8) consults and coordinates with other components within HRSA and HHS, and with other federal agencies, state and local governments, and other public and private organizations on issues affecting BPHC programs and policies.

Office of Quality Improvement (RCK)

The Office of Quality Improvement serves as the organizational focus for program performance including, clinical and operational quality improvement, patient safety and risk management, data reporting, and program evaluation. Specifically: (1) Provides leadership for implementing BPHC clinical quality and performance improvement strategies/initiatives, including health information technology; (2) oversees BPHC Federal Tort Claims Act (FTCA) medical malpractice liability programs, reviewing, risk management and patient safety activities to improve policies and programs for primary health care services, including clinical information systems; (3) leads and coordinates BPHC national and state technical assistance/programs and activities, including those focused on special populations; (4) identifies and provides assistance to BPHC programs around quality improvement and performance reporting activities; (5) oversees BPHC programs related to health information technology and quality improvement; (6) serves as BPHC focal point for the design and implementation of program evaluations; and (7) coordinates BPHC/quality improvement and performance reporting activities within HRSA and HHS, and with other federal agencies, state and local governments, and other public and private organizations concerned with primary health care, eliminating health disparities, and improving the health status of the Nation's underserved and vulnerable populations.

Section RC-30, Delegations of Authority

All delegations of authority and re-delegations of authority made to HRSA officials that were in effect immediately prior to this reorganization, and that are consistent with this reorganization, shall continue in effect pending further re-delegation.

This reorganization is effective October 20, 2014.

Dated: September 23, 2014.
Mary K. Wakefield,
Administrator.

[FR Doc. 2014-25205 Filed 10-22-14; 8:45 am]

BILLING CODE 4165-15-P